Title 3—

The President

Executive Order 13226 of September 30, 2001

President's Council of Advisors on Science and Technology

By the authority vested in me as President by the Constitution and the laws of the United States of America, including the Federal Advisory Committee Act, as amended (5 U.S.C. App.), and in order to establish an advisory committee on science and technology, it is hereby ordered as follows:

Section 1. Establishment. There is established the President's Council of Advisors on Science and Technology (PCAST). The PCAST shall be composed of not more than 25 members, one of whom shall be a Federal Government official designated by the President (the “Official”), and 24 of whom shall be nonfederal members appointed by the President and have diverse perspectives and expertise in science, technology, and the impact of science and technology on the Nation. The Official shall co-chair PCAST with a nonfederal member designated by the President.

Sec. 2. Functions. (a) The PCAST shall advise the President, through the Official, on matters involving science and technology policy.

(b) In performance of its advisory duties, the PCAST shall assist the National Science and Technology Council (NSTC) in securing private sector involvement in its activities.

Sec. 3. Administration. (a) The heads of the executive departments and agencies shall, to the extent permitted by law, provide the PCAST with information concerning scientific and technological matters when requested by the PCAST co-chairs.

(b) In consultation with the Official, the PCAST is authorized to convene ad hoc working groups to provide preliminary nonbinding information and advice directly to the PCAST.

(c) Members shall serve without compensation for their work on the PCAST. However, members may be allowed travel expenses, including per diem in lieu of subsistence, as authorized by law for persons serving intermittently in the government service (5 U.S.C. 5701-5707).

(d) Any expenses of the PCAST shall be paid from the funds available for the expenses of the Office of Science and Technology Policy.

(e) The Office of Science and Technology Policy shall provide such administrative services as the PCAST may require, with the approval of the Official.

Sec. 4. General. (a) Notwithstanding any other Executive Order, the functions of the President with respect to the PCAST under the Federal Advisory Committee Act, as amended, except that of reporting to the Congress, shall be performed by the Office of Science and Technology Policy in accordance with the guidelines and procedures established by the Administrator of General Services.

(b) The PCAST shall terminate 2 years from the date of this order unless extended by the President prior to that date.

(c) Executive Order 12882 of November 23, 1993; Executive Order 12907 of April 14, 1994; and section 1(h) of Executive Order 13138 of September 30, 1999, are hereby revoked.

B

THE WHITE HOUSE,

September 30, 2001.

[FR Doc. 01-24983

Filed 10-2-01; 8:58 am]

Billing code 3195-01-P